DEPARTMENT OF ENERGY

Federal Energy Regulatory Commission

[Docket No. TS19-2-000]

Notice of Filing; City of Grand Island, Nebraska, Grand Island Utilities

Take notice that on December 10, 2018, pursuant to section 358.1(d) of the Federal Energy Regulatory Commission's (Commission) Rules of Practice and Procedure,¹ the City of Grand Island, Nebraska, Grand Island Utilities Department (GUID), filed a request for waiver of the Commission Standards of Conduct requirements that may apply to GIUD under part 358 of the Commission's regulations,² and Order Nos. 717,³ 888,⁴ 889,⁵ and 2004.⁶

¹ 18 CFR 358.1(d) (2015).

² 18 CFR part 358.

³ Standards of Conduct for Transmission Providers, Order No. 717, FERC Stats. & Regs. ¶ 31,280 (2008), order on reh'g, Order No. 717-A, FERC Stats. & Regs. ¶ 31,297, order on reh'g Order No. 717-B, 129 FERC ¶ 61,123 (2009), on reh'g, Order No. 717-C, 131 FERC ¶ 61,045 (2010).

⁴ Promoting Wholesale Competition Through Open Access Non-Discriminatory Transmission Services by Public Utilities; Recovery of Stranded Costs by Public Utilities and Transmitting Utilities, Order No. 888, FERC Stats. & Regs. ¶ 31,036 (1996), order on reh'g, Order No. 888-A, FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group, et al. v. FERC, 225 F.3d 667 (D.C. Cir. 2000), aff'd sub nom. New York v. FERC, 535 U.S. 1 (2002).

⁵ Open Access Same-Time Information System and Standards of Conduct, Order No. 889, FERC Stats. & Regs. ¶ 31,035 (1996), order on reh'g, Order No. 889-A, FERC Stats. & Regs. ¶ 31,049 (1997), reh'g denied, Order No. 889-B, 81 FERC ¶ 61,253 (1997).

⁶ Standards of Conduct for Transmission Providers, Order No. 2004, 68 FR 69134 (Dec. 11, 2003), FERC Stats. & Regs. ¶ 31,155 (2003), order on reh'g, Order No. 2004-A, 69 FR 23562 (Apr. 29, 2004), FERC Stats. & Regs. ¶ 31,161 (2004), order on reh'g, Order No. 2004-B, 69 FR 48371 (Aug. 10, 2004), FERC Stats. & Regs. ¶ 31,166 (2004), order on reh'g, Order No. 2004-C, 70 FR 284 (Jan. 4, 2005), FERC Stats. & Regs. ¶ 31,172 (2004), order on reh'g, Order No. 2004-D, 110 FERC ¶ 61,320 (2005), vacated in part sub nom. Nat'l Fuel Gas Supply Corp. v. FERC, 468 F.3d 831 (D.C. Cir. 2006).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 29, 2019.

Dated: April 29, 2019.
Kimberly D. Bose,
Secretary.

[FR Doc. 2019-09197 Filed 5-3-19; 8:45 am]

BILLING CODE 6717-01-P